DEPARTMENT OF COMMERCE

Economics and Statistics Administration

Establishment of the Federal Economic Statistics Advisory Committee and Intention To Recruit New Members

AGENCY: Economics and Statistics Administration, Commerce.

ACTION: Notice of the Establishment of the Federal Economic Statistics Advisory Committee and Intention to Recruit New Members.

SUMMARY: The Secretary of Commerce is announcing the establishment of and intention to recruit new members of a Federal Advisory Committee. In accordance with the provisions of the Federal Advisory Committee Act, 5 U.S.C. App. 2, and the General Services Administration rule on Federal Advisory Committee Management, 41 CFR part 101-6.1001, the Secretary of Commerce has determined that the establishment of the Federal Economic Statistics Advisory Committee (the “Committee') within the Economics and Statistics Administration (ESA), is in the public interest in connection with the performance of duties imposed on the Department by law.

The Committee will advise the Directors of ESA's two statistical agencies, the Bureau of Economic Analysis (BEA) and the U.S. Census Bureau (Census), and the Commissioner of the Department of Labor's Bureau of Labor Statistics (BLS) on statistical methodology and other technical matters related to the collection, tabulation, and analysis of Federal economic statistics.

The Committee will function solely as an advisory committee to the senior officials of BEA, Census and BLS (the Agencies) in consultation with the Committee chairperson. Important aspects of the Committee's responsibilities include, but are not limited to:

a. Recommending research to address important technical problems arising in Federal economic statistics.

b. Identifying areas in which better coordination of the Agencies' activities would be beneficial.

c. Establishing relationships with professional associations with an interest in Federal economic statistics.

d. Coordinating, in its identification of agenda items, with other existing academic advisory committees chartered to provide agency-specific advice, for the purpose of avoiding duplication of effort.

The Committee will report to the Under Secretary for Economic Affairs who, as head of ESA, will coordinate and collaborate with the Agencies.

The Committee will consist of approximately fourteen members who serve at the pleasure of the Secretary of Commerce. Members shall be nominated by the Department of Commerce, in consultation with the Agencies, under the coordination of the Under Secretary for Economic Affairs, and appointed by the Secretary of Commerce. Committee members shall be economists, statisticians, survey methodologists, and behavioral scientists and will be chosen to achieve a balanced membership across those disciplines. Members shall be prominent experts in their fields, and recognized for their scientific and professional achievements and objectivity.

The Department intends to recruit new members of the Committee that meet these membership criteria through a separate Federal Register notice and application process in the near future.

The Committee will function solely as an advisory body, in compliance with the provisions of the Federal Advisory Committee Act. The Charter will be filed under the Federal Advisory Committee Act.

FOR FURTHER INFORMATION CONTACT: Barbara Atrostic, Center for Economic Studies, U.S. Census Bureau, 4600 Silver Hill Road, Suitland, Maryland, telephone: 301-763-6442, e-mail: barbara.kathryn.atrostic@census.gov.

Rebecca M. Blank,
Under Secretary for Economic Affairs.

[FR Doc. 2010-22985 Filed 9-14-10; 8:45 am]

BILLING CODE 3510-06-P